DEPARTMENT OF HEALTH AND HUMAN SERVICES

National Institutes of Health

National Institute of Mental Health; Notice of Workgroup Meeting

Notice is hereby given of a meeting of the Strategic Planning Workgroup (SPWG) organized by the Interagency Autism Coordinating Committee (IACC).

Audio of this workgroup meeting will be accessible to the public via a teleconference phone link, and there will be Web-based access to information displayed at the meeting via computer/projector. Access information will be posted on the IACC Web site: (http://www.nimh.nih.gov/research-funding/scientific-meetings/recurring-meetings/iacc/events/index.shtml). Attendance at the meeting itself will be limited to workgroup members. The purpose of the workgroup meeting is to review an early draft of the IACC Strategic Plan for Autism Spectrum Disorder (ASD) Research. The SPWG comments on the draft plan will be forwarded to the IACC for consideration and discussion at its next meeting on July 15, 2008.

Name of Committee: Interagency Autism Coordinating Committee (IACC).

Type of meeting: Strategic Planning Workgroup.

Date: July 8, 2008.

Time: 10 a.m. to 1 p.m. EST.

Agenda: Review of draft IACC Strategic Plan for ASD Research.

Place: National Institutes of Health, Neuroscience Center, 6001 Executive Boulevard, Room 2172, Bethesda, MD.

Contact Person: Tanya Pryor, National Institute of Mental Health, NIH, 6001 Executive Boulevard, NSC, Bethesda, MD 20892-9669, 301-443-7153.

Information about the IACC is available on the Web site: http://www.nimh.nih.gov/research-funding/scientific-meetings/recurring-meetings/iacc/index.shtml.

Dated: June 10, 2008.
Jennifer Spaeth,
Director, Office of Federal Advisory Committee Policy.

[FR Doc. E8-13508 Filed 6-16-08; 8:45 am]

BILLING CODE 4140-01-P